DEPARTMENT OF COMMERCE

International Trade Administration

[C-507-501]

Notice of Rescission of Countervailing Duty Administrative Review: In-shell Pistachios from the Islamic Republic of Iran

AGENCY: Import Administration, International Trade Administration, Department of Commerce.

ACTION: Notice of Rescission of Countervailing Duty Administrative Review.

SUMMARY: On April 16, 2003, the Department of Commerce (the Department) initiated an administrative review of the countervailing duty order on in-shell (raw) pistachios from the Islamic Republic of Iran (Iran), covering one manufacturer/exporter of the subject merchandise, Rafsanjan Pistachio Producers Cooperative (RPPC), and the period January 1, 2002, through December 31, 2002. See Initiation of Antidumping and Countervailing Duty Administrative Reviews, 68 FR 19498 (April 21, 2003). This review has now been rescinded due to petitioners'¹ withdrawal of their request for an administrative review.

¹ Petitioners are the California Pistachios Commission (CPC) and its members.

EFFECTIVE DATE: July 25, 2003

FOR FURTHER INFORMATION CONTACT: Darla Brown or Eric B. Greynolds, AD/CVD Enforcement, Office VI, Group II, Import Administration, U.S. Department of Commerce, Room 4012, 14th Street and Constitution Avenue, NW, Washington, DC 20230; telephone (202) 482-2849 or (202) 482-6071, respectively.

SUPPLEMENTARY INFORMATION:

Background

On March 31, 2003, the Department received a timely request from the CPC for an administrative review of the countervailing duty order on in-shell (raw) pistachios from Iran. On April 16, 2003, the Department initiated an administrative review of this order for the period January 1, 2002, through December 31, 2002. On July 9, 2003, the CPC submitted a timely letter requesting to withdraw their request for the above-referenced administrative review.

Scope of the Review

The product covered by this administrative review is in-shell (raw) pistachio nuts from which the hulls have been removed, leaving the inner hard shells and edible meat, as currently classifiable in the Harmonized Tariff Schedules of the United States (HTSUS) under item number 0802.50.20.00. The HTSUS subheadings are provided for convenience and customs purposes. The written description of the scope of this proceeding is dispositive.

Rescission of Review

On July 9, 2003, the CPC submitted a letter requesting to withdraw its request for the above-referenced administrative review. See letter from the CPC to the Department dated July 9, 2003, on file in the Central Records Unit, Room B-099, main building of the Department of Commerce. This letter was timely filed within 90 days of the publication notice of initiation of the requested review.

Having accepted the CPC's request, the Department hereby rescinds the administrative review of in-shell (raw) pistachios from Iran for the period January 1, 2002, to December 31, 2002. See 19 CFR section 351.213(d)(1). The Department will issue appropriate assessment instructions to the U.S. Bureau of Customs and Border Protection (Customs) within 15 days of publication of this notice.

This notice is in accordance with section 751(a)(1) of the Tariff Act of 1930, as amended, and section 351.213(d) of the Department's regulations.

Dated: July 21, 2003.
Holly A. Kuga,
Acting Deputy Assistant Secretary for Import Administration.

[FR Doc. 03-19024 Filed 7-24-03; 8:45 am]

BILLING CODE 3510-DS-S